DEPARTMENT OF HEALTH AND HUMAN SERVICES

Centers for Disease Control and Prevention

Request for Nominations of Candidates To Serve on the Advisory Committee for Energy-Related Epidemiologic Research, Department of Health and Human Services (HHS)

The Public Health Service is soliciting nominations for possible membership on the Advisory Committee for Energy-Related Epidemiologic Research. The Advisory Committee for Energy-Related Epidemiologic Research provides advice and makes recommendations to the Secretary, HHS; the Director, Centers for Disease Control and Prevention; and the Administrator, Agency for Toxic Substances and Disease Registry, on establishment of a research agenda and the conduct of a research program pertaining to energy-related epidemiologic studies. Advice and recommendations cover a number of important areas, including the appropriate interaction between the Committee and Department of Energy (DOE) regarding the direction HHS should take in establishing a research agenda, development of a research plan, and the respective roles of HHS and DOE in energy-related health research.

Nominations are being sought for the fields of energy-related epidemiologic research and public health, including occupational and environmental health; representatives of public interest groups; and representatives of affected parties (e.g., workers and community residents). Federal Employees will not be considered for membership. Members may be invited to serve a one, two, three, or four-year term. Close attention will be given to minority and female representation; therefore, nominations from these groups are encouraged.

The following information must be submitted: Name of nominee, affiliation, address, telephone and fax number and a current curriculum vitae or resume. Nominations should be sent, in writing, and be postmarked by April 1, 2000, to: Kitty Armstrong, Committee Management Specialist, National Center for Environmental Health, Centers for Disease Control and Prevention, 1600 Clifton Road, NE (MS E-39), Atlanta, Georgia 30333. Telephone or fax submissions cannot be accepted.

The Director, Management Analysis and Services Office, has been delegated the authority to sign Federal Register notices pertaining to announcements of meetings and other committee management activities, for both CDC and ATSDR.

Dated: March 6, 2000.
Carolyn J. Russell,
Director, Management Analysis and Services Office, Centers for Disease Control and Prevention (CDC).

[FR Doc. 00-5888 Filed 3-9-00; 8:45 am]

BILLING CODE 4163-18-P